DEPARTMENT OF HOMELAND SECURITY

Coast Guard

33 CFR Part 167

[USCG-2009-0576]

Port Access Route Study: The Approaches to San Francisco

AGENCY: Coast Guard, DHS.

ACTION: Notice of availability of study results.

SUMMARY: The Coast Guard announces the availability of a Port Access Route Study (PARS) evaluating the continued applicability of and the potential need for modifications to the current vessel routing in the approaches to San Francisco. The study was completed in February, 2011. This notice summarizes the study recommendations which include enhancements to existing vessel routing measures.

SUPPLEMENTARY INFORMATION: Viewing the comments and “Port Access Route Study Approaches to San Francisco Bay” February 2011. To view the comments and the PARS San Francisco go to http://www.regulations.gov, click on the “read comments” box, which will then become highlighted in blue. In the “Keyword” box insert “USCG-2009-0576” and click “Search.” Click the “Open Docket Folder” in the “Actions” column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

FOR FURTHER INFORMATION CONTACT: If you have questions concerning this notice, contact Lieutenant Lucas Mancini, Eleventh Coast Guard District, telephone 510-437-3801, e-mail Lucas.W.Mancini@uscg.mil. If you have questions on viewing the docket contact, Renee V. Wright, Program Manager, Docket Operations, 202-366-9826.

Definitions: The following definitions should help the reader to understand terms used throughout this document:

Marine Environment, as defined by the Ports and Waterways Safety Act, means the navigable waters of the United States and the land resources therein and thereunder; the waters and fishery resources of any area over which the United States asserts exclusive fishery management authority; the seabed and subsoil of the Outer Continental Shelf of the Unites States, the resources thereof and the waters superjacent thereto; and the recreational, economic, and scenic values of such waters and resources.

Precautionary area means a routing measure comprising an area within defined limits where vessels must navigate with particular caution and within which the direction of traffic flow may be recommended.

Traffic lane means an area within defined limits in which one-way traffic is established. Natural obstacles, including those forming separation zones, may constitute a boundary.

Traffic Separation Scheme or TSS means a routing measure aimed at the separation of opposing streams of traffic by appropriate means and by the establishment of traffic lanes.

Vessel routing system means any system of one or more routes or routing measures aimed at reducing the risk of casualties; it includes traffic separation schemes, two-way routes, recommended tracks, areas to be avoided, no anchoring areas, inshore traffic zones, roundabouts, precautionary areas, and deep-water routes.

SUPPLEMENTARY INFORMATION:

Background and Purpose

The Coast Guard published a notice of study in the Federal Register on December 10, 2009 (74 FR 65543), entitled “Port Access Route Study: Off San Francisco” and completed the study in February, 2011.

The study area encompassed the traffic separation scheme off San Francisco and extended to the limit of the Coast Guard San Francisco Vessel Traffic Service (VTS) area of responsibility in order to analyze traffic patterns of vessels departing from or approaching the current traffic lanes. The VTS area covers the seaward approaches within a 38 nautical mile radius of Mount Tamalpais (37[deg] 55.8'N, 122[deg] 34.6'W). The coverage area is annotated on National Oceanic and Atmospheric Administration (NOAA) chart number 18645.

The primary purpose of the study was to reconcile the need for safe access routes with other reasonable waterway uses, to the extent practical. The goal of the study was to help reduce the risk of marine casualties and increase the efficiency of vessel traffic in the study area. When vessels follow predictable and charted routing measures, congestion may be reduced, and mariners may be better able to predict where vessel interactions may occur and act accordingly. The Coast Guard studied whether extending the traffic separation scheme would increase the predictability of vessel movements and what the impact might be on fishing vessels operating in the area. The study also assessed potential impacts on the Gulf of the Farallons and Cordell Bank National Marine Sanctuaries and the marine environment if the traffic lanes were extended or modified. The Coast Guard announced the notice of study in the Federal Register on December 10, 2009 (74 FR 65543), entitled “Port Access Route Study: Off San Francisco.” Due to the lack of a substantive number of comments in response to the original notice and our strong desire to engage the public in the study process, we announced a public meeting to be held October 20, 2010 at the Executive Inn and Suites in Oakland California. The Coast Guard also sent out a press release to local media and news outlets to help solicit public comment.

The recommendations of the PARS are based in large part on the comments received, public outreach, and consultation with other government agencies.

Study Recommendations

The PARS evaluated 5 separate concerns that resulted in 7 recommendations intended to improve the safety of vessel traffic in the study area, as well as adhere to governing regulations regarding the National Marine Sanctuaries. The actual PARS should be consulted for a detailed explanation of each recommendation. The PARS also contains a chartlet of the proposed changes to the TSS. It can be accessed as described in the Viewing the comments and “Port Access Route Study Approaches to San Francisco Bay” February 2011 section of this notice. The PARS recommendations include:

• Extend the northern TSS 17nm to the northern end of the VTS San Francisco area of responsibility.

• Add a dog leg turn in the northern TSS just below the 38th parallel to keep vessels on a predictable path in a prime area for fishing.

• Change the current flared configuration of the northern TSS to a 3 mile wide approach. The 3 mile wide TSS would consist of 1 nautical mile wide lanes, separated by a 1 nautical mile wide separation zone.

• Extend the western TSS 3nm seaward to the 200 fathom contour at the edge of the continental shelf.

• Shift the seaward end of the outbound lane closest to the Farallon Islands in the western TSS 3.7 nautical miles to the south. No shift in the inbound lane of the western TSS.

• Change the current flared configuration of the western TSS to a 3 mile wide approach. The 3 mile wide TSS would consist of 1 nautical mile wide lanes, separated by a 1 nautical mile wide separation zone.

• Extend the southern TSS 8.5NM to the southern end of the VTS San Francisco area of responsibility.

Conclusion

The PARS contains 7 recommendations, which would require the approval of the International Maritime Organization for implementation. The Coast Guard will follow the Federal rulemaking process for implementation of any of the proposed changes to the traffic separation schemes. This process will also include section 7 consultations with the National Marine Fisheries Service in accordance with the Endangered Species Act. This will provide ample opportunity for additional comments on proposed changes to the existing vessel routing system through a notice of proposed rulemaking (NPRM) published in the Federal Register.

Dated: May 20, 2011.
J.R. Castillo,
Rear Admiral, U.S. Coast Guard, Commander, Eleventh Coast Guard District.

[FR Doc. 2011-15167 Filed 6-17-11; 8:45 am]

BILLING CODE 9110-04-P